DEPARTMENT OF THE INTERIOR

Fish and Wildlife Service

[FWS-HQ-FAC-2018-N099; FXFR13360900000-FF09F14000-189]

Aquatic Nuisance Species Task Force Meeting

AGENCY: Fish and Wildlife Service, Interior.

ACTION: Notice of teleconference/web meeting.

SUMMARY: We, the U.S. Fish and Wildlife Service (Service), announce a teleconference/web meeting of the Aquatic Nuisance Species (ANS) Task Force, in accordance with the Federal Advisory Committee Act. The ANS Task Force's purpose is to develop and implement a program for U.S. waters to prevent introduction and dispersal of aquatic invasive species; to monitor, control, and study such species; and to disseminate related information.

DATES: Teleconference/web meeting: Monday, October 15, 2018, from 1 p.m. to 4 p.m. (Eastern Time). For security purposes, registration is required. For deadlines to listen to the meeting by telephone, listen and view through the internet, or provide oral public comment by phone, please see Public Input under SUPPLEMENTARY INFORMATION. For more information, contact the ANS Task Force Executive Secretary (see FOR FURTHER INFORMATION CONTACT).

ADDRESSES:

Meeting location: We are holding the meeting via teleconference and over the web so that participants can attend remotely. To receive the web address and telephone number for participation, contact the Executive Secretary (see FOR FURTHER INFORMATION CONTACT) or visit the ANS Task Force website at: website at http://anstaskforce.gov.

Comment submission: You may submit written comments in advance of the meeting by emailing them to the ANS Task Force Executive Secretary (see FOR FURTHER INFORMATION CONTACT).

FOR FURTHER INFORMATION CONTACT: Susan Pasko, Executive Secretary, ANS Task Force, by telephone at (703) 358-2466, or by email at Susan_Pasko@fws.gov. If you use a telecommunications device for the deaf (TDD), please call the Federal Relay Service at (800) 877-8339.

SUPPLEMENTARY INFORMATION: We, the U.S. Fish and Wildlife Service (Service), announce a public teleconference/web meeting of the ANS Task Force, in accordance with the Federal Advisory Committee Act (5 U.S.C. Appendix 2). The ANS Task Force was established by the Nonindigenous Aquatic Nuisance Prevention and Control Act of 1990, as amended (NANPCA; 16 U.S.C. 4701 et seq.), is composed of 13 Federal and 15 ex-officio members, and is co-chaired by the Service and the National Oceanic and Atmospheric Administration. The ANS Task Force's purpose is to develop and implement a program for U.S. waters to prevent introduction and dispersal of aquatic invasive species; to monitor, control, and study such species; and to disseminate related information.

Meeting Agenda

• Review and discuss the draft ANS Task Force goals, priorities, and strategies that will form the foundation of the next ANS Task Force Strategic Plan.

• Public comment period.

The final agenda and other related meeting information will be posted on the ANS Task Force website at http://anstaskforce.gov. Summary minutes of the meeting will be maintained by the Executive Secretary and will be available for public inspection within 90 days after the meeting at http://anstaskforce.gov.

Public Input

If you wish to listen to the webinar by telephone, listen and view through the internet, provide oral public comment by phone, or provide a written comment for the ANS Task Force to consider, contact the ANS Task Force Executive Secretary (see FOR FURTHER INFORMATION CONTACT) no later than Monday, October 8, 2018.

The U.S. Fish and Wildlife Service is committed to providing access to this teleconference/webinar for all participants. Please direct all requests for sign language interpretation services, closed captioning, or other accommodation to the ANS Task Force Executive Secretary (see FOR FURTHER INFORMATION CONTACT) by close of business Monday, October 8, 2018.

Before including your address, phone number, email address, or other personal identifying information in your comment, you should be aware that your entire comment—including your personal identifying information—may be made publicly available at any time. While you can ask us in your comment to withhold your personal identifying information from public review, we cannot guarantee that we will be able to do so.

Authority 5 U.S.C. Appendix 2.

Dated: September 19, 2018.
David W. Hoskins,
Co-Chair, Aquatic Nuisance Species Task Force, Assistant Director for Fish and Aquatic Conservation.

[FR Doc. 2018-20799 Filed 9-24-18; 8:45 am]

BILLING CODE 4333-15-P